DEPARTMENT OF THE INTERIOR

Office of Surface Mining Reclamation and Enforcement

30 CFR Parts 780, 816, and 817

RIN 1029-AC04

Surface Coal Mining and Reclamation Operations; Excess Spoil; Stream Buffer Zones; Diversions

AGENCY: Office of Surface Mining Reclamation and Enforcement, Interior.

ACTION: Proposed rule; extension of comment period and notice of public hearings.

SUMMARY: We are extending the comment period on our proposed rule commonly referred to as the “excess spoil/stream buffer zone rule.” The comment period is being extended by 30 days in order to afford the public more time to comment and to allow enough time to hold five public hearings. We are also notifying the public of the dates and locations for five public hearings on the proposed rule.

DATES: We will accept written comments on the proposed rule until 5 p.m., eastern time, on April 7, 2004.

See the SUPPLEMENTARY INFORMATION section for the hearing dates.

ADDRESSES: You may mail or hand carry comments to the Office of Surface Mining Reclamation and Enforcement, Administrative Record, Room 101, 1951 Constitution Avenue, NW., Washington, DC 20240, or you may send comments via electronic mail to osmrules@osmre.gov.

If you wish to comment on the information collection aspects of this proposed rule, you may submit your comments to the Office of Management and Budget, Office of Information and Regulatory Affairs, Attention: Interior Desk Officer, via e-mail to oira_docket@omb.eop.gov, or via facsimile to 202-365-6566.

See the SUPPLEMENTARY INFORMATION section for hearing addresses.

FOR FURTHER INFORMATION CONTACT: David G. Hartos, Office of Surface Mining Reclamation and Enforcement, U.S. Department of the Interior, 3 Parkway Center, Pittsburgh, PA 15220; Telephone: 412-937-2909. E-mail address: dhartos@osmre.gov. Additional information concerning this rule and related documents may be found on our home page on the Internet at http://www.osmre.gov/ocpropos.htm.

SUPPLEMENTARY INFORMATION: On January 7, 2004 (69 FR 1036), we published a proposed rule that would minimize the adverse environmental effects stemming from the construction of excess spoil fills associated with coal mining in Appalachia. The proposed rule would also clarify the circumstances in which mining activities, such as the construction of excess spoil fills, may be allowed within the “stream buffer zone” within 100 feet of a perennial or intermittent stream. The comment period on the proposed rule was scheduled to close on March 8, 2004. We have received six requests to hold public hearings on the proposed rule from representatives of the following organizations: Save Our Cumberland Mountains, Citizens Coal Council, Kentuckians for the Commonwealth, Mountain Watershed Association, Inc., Coal River Watch, and Tri-State Citizens Mining Network. We are granting their requests for public hearings and are extending the comment period on the proposed rule by 30 days in order to hold the following five hearings on the dates and locations shown below:

1. March 30, 2004, 6 p.m. to 9 p.m., Charleston Civic Center, Room 206, 200 Civic Center Drive, Charleston, WV.

2. March 30, 2004, 6 p.m. to 9 p.m., Best Western Parkway Center, 8th Floor in the Horizon Room, 875 Greentree Road, Greentree, PA.

3. March 30, 2004, 6 p.m. to 9 p.m., Hazard Community College, Hazard Campus, Jolly Center, Room 208, One Community College Drive, Hazard, KY.

4. March 30, 2004, 6 p.m. to 9 p.m., Roane State Community College, O'Brien Building, Room 101, 276 Patton Lane, Harriman, TN.

5. March 30, 2004, from 2 p.m. to 4 p.m., Office of Surface Mining, South Interior Auditorium, 1951 Constitution Avenue NW., Washington, DC 20240. Please use the rear entrance to the building and have photo identification with you.

These hearings will be open to anyone who would like to attend and/or testify. The primary purpose of the public hearing is to obtain your views on the proposed rule so that we can prepare a complete and objective analysis. A public hearing is not an adversarial process and, therefore, we encourage you to limit your testimony to the proposed rule. We appreciate any and all comments, but those most useful and likely to influence decisions on the final rule will be those that either involve personal experience or include citations to and analyses of the Surface Mining Control and Reclamation Act of 1977, its legislative history, its implementing regulations, case law, other State or Federal laws and regulations, technical literature, or relevant publications.

At the hearing, a court reporter will record and make a written record of the statements presented. This written record will be made part of the administrative record for the rule. If you have a written copy of your testimony, we encourage you to give us a copy. It will assist the court reporter in preparing the written record. Please do not feel intimidated by either the reporter or the formal structure of the hearing. Any disabled individual who needs special accommodation to attend a public hearing is encouraged to contact the person listed under FOR FURTHER INFORMATION CONTACT.

Dated: February 18, 2004.
Brent Wahlquist,
Regional Director, Appalachian Regional Coordinating Center, Office of Surface Mining Reclamation and Enforcement.

[FR Doc. 04-4299 Filed 2-25-04; 8:45 am]

BILLING CODE 4310-05-M